DEPARTMENT OF HEALTH AND HUMAN SERVICES

Centers for Disease Control and Prevention

Solicitation of Nominations for Appointment to the Board of Scientific Counselors, Deputy Director for Infectious Diseases

AGENCY: Centers for Disease Control and Prevention (CDC), Department of Health and Human Services (HHS).

ACTION: Notice.

SUMMARY: The Centers for Disease Control and Prevention (CDC), within the Department of Health and Human Services (HHS), is seeking nominations for membership on the Board of Scientific Counselors, Deputy Director for Infectious Diseases (BSC, DDID). The BSC, DDID consists of 17 experts from authorities knowledgeable in the fields relevant to the issues addressed by CDC's infectious disease national centers (e.g., respiratory diseases, healthcare-associated infections, antimicrobial resistance, foodborne diseases, zoonotic and vector-borne diseases, sexually transmitted diseases, preparedness) and related specialties, including clinical and public health practice (including state and local health departments), laboratory practice, research, diagnostics, microbiology, immunology, molecular biology, bioinformatics, infectious disease modeling and outbreak analytics, health policy/communications, and industry.

DATES: Nominations for membership on the BSC, DDID must be received no later than April 14, 2023. Packages received after this time will not be considered for the current membership cycle.

ADDRESSES: All nominations should be mailed to the Centers for Disease Control and Prevention, BSC, DDID, 1600 Clifton Road NE, Mailstop H16-5, Atlanta, Georgia 30329-4027 or emailed to SWiley@cdc.gov.

FOR FURTHER INFORMATION CONTACT: Sarah Wiley, M.P.H., Senior Advisor, National Center for Emerging and Zoonotic Infectious Diseases, CDC, 1600 Clifton Road NE, Mailstop H16-5, Atlanta, Georgia 30329-4027. Telephone: (404) 639-4840; Email: SWiley@cdc.gov.

SUPPLEMENTARY INFORMATION: Nominations are sought for individuals who have the expertise and qualifications necessary to contribute to the accomplishment of the objectives of the BSC, DDID. Nominees will be selected based on expertise in the fields of infectious diseases and related specialties, including those listed above. Federal employees will not be considered for membership. Members may be invited to serve for up to four-year terms. Selection of members is based on candidates' qualifications to contribute to the accomplishment of BSC, DDID objectives (https://www.cdc.gov/ddid/bsc.html).

HHS policy stipulates that committee membership be balanced in terms of points of view represented and the committee's function. Appointments shall be made without discrimination on the basis of age, race, ethnicity, gender, sexual orientation, gender identity, HIV status, disability, and cultural, religious, or socioeconomic status. Nominees must be U.S. citizens and cannot be full-time employees of the U.S. Government. Current participation on Federal workgroups or prior experience serving on a Federal advisory committee does not disqualify a candidate; however, HHS policy is to avoid excessive individual service on advisory committees and multiple committee memberships. Committee members are Special Government Employees, requiring the filing of financial disclosure reports at the beginning of and annually during their terms. CDC reviews potential candidates for BSC, DDID membership each year and provides a slate of nominees for consideration to the Secretary of HHS for final selection. HHS notifies selected candidates of their appointment near the start of the term in October 2023, or as soon as the HHS selection process is completed. Note that the need for different expertise varies from year to year and a candidate who is not selected in one year may be reconsidered in a subsequent year. Candidates should submit the following items:

Current curriculum vitae, including complete contact information (telephone numbers, mailing address, email address).

At least one letter of recommendation from person(s) not employed by the U.S. Department of Health and Human Services. Candidates may submit letter(s) from current HHS employees if they wish, but at least one letter must be submitted by a person not employed by an HHS agency (e.g., CDC, NIH, FDA).

Nominations may be submitted by the candidate or by the person/organization recommending the candidate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-05293 Filed 3-14-23; 8:45 am]

BILLING CODE 4163-18-P